DEPARTMENT OF COMMERCE

International Trade Administration

[A-403-801]

Fresh and Chilled Atlantic Salmon From Norway: Final Results of the Full Sunset Review of Antidumping Duty Order

AGENCY: Import Administration, International Trade Administration, Department of Commerce.

SUMMARY: On August 29, 2005, the Department of Commerce (the “Department”) published a notice of preliminary results of the full sunset review of the antidumping duty order on fresh and chilled Atlantic salmon from Norway (“Salmon from Norway”) pursuant to section 751(c) of the Tariff Act of 1930, as amended (“the Act”). See Fresh and Chilled Atlantic Salmon From Norway: Preliminary Results of the Full Sunset Review of Antidumping Duty Order, 70 FR 51012 (August 29, 2005) (“Preliminary Results”). In those Preliminary Results we provided interested parties an opportunity to comment on our preliminary results. We received a case brief from the Norwegian Seafood Federation and the Norwegian Seafood Association (“respondents”) and a rebuttal brief from Heritage Salmon Company, Inc., and Atlantic Salmon of Maine (the “domestic interested parties ”). A hearing, requested by respondents, was held on October 26, 2005 at the Department. As a result of this review, the Department finds that revocation of this order would be likely to lead to continuation or recurrence of dumping.

EFFECTIVE DATE: December 30, 2005.

FOR FURTHER INFORMATION CONTACT: Malcolm Burke or Zev Primor, AD/CVD Operations, Office 4, Import Administration, International Trade Administration, U.S. Department of Commerce, 14th Street & Constitution Avenue, NW., Washington, DC 20230; telephone: 202-482-3584 or 202-482-4114, respectively.

SUPPLEMENTARY INFORMATION:

Scope of the Order

The product covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated (“TSUSA”). Atlantic salmon is currently provided for under the Harmonized Tariff Schedule of the United States (“HTSUS”) subheadings 0302.12.0003 and 0302.12.0004. The HTSUS subheadings are provided for convenience and customs purposes. The written description remains dispositive as to the scope of the product coverage.

Background

On August 29, 2005, the Department published in the Federal Register a notice of the Preliminary Results of the full sunset review of the antidumping duty order on Salmon from Norway. In those Preliminary Results we determined that revocation of the order would likely result in continuation or recurrence of dumping at the margins reported in the “Final Results of Review” section of this notice. On October 18, 2005, respondents submitted a case brief in response to the Department's Preliminary Results, and on October 24, 2005, the domestic interested parties submitted a rebuttal brief. A hearing, requested by respondents on August 29, 2005, was held at the Department on October 26, 2005.

Analysis of Comments Received

All issues raised in the case and rebuttal briefs by parties to this sunset review are addressed in the “Issues and Decision Memorandum” from Stephen J. Claeys, Deputy Assistant Secretary for Import Administration, to Joseph A. Spetrini, Acting Assistant Secretary for Import Administration, dated December 28, 2005, which is hereby adopted and incorporated by reference into this notice. The issues discussed in the Issues and Decision Memorandum include the likelihood of continuation or recurrence of dumping and the magnitude of the margin likely to prevail were the order revoked. Parties can find a complete discussion of all issues raised in this review and the corresponding recommendations in this public memorandum, which is on file in the Central Records Unit, room B-099, of the main Commerce building. Additionally, a complete version of the Issues and Decision Memorandum can be accessed on the internet at http://ia.ita.doc.gov. The paper copy and the electronic version of the Issues and Decision Memorandum are identical in content.

Final Results of Review

We determine that revocation of the antidumping duty order on salmon from Norway would be likely to lead to continuation or recurrence of dumping at the following weighted-average margins:

Manufacturer/Exporter | Margin (percent)
Salmonor A/S | 18.39 percent
Sea Star International | 24.61 percent
Skaarfish Mowi A/S | 15.65 percent
Fremstad Group A/S | 21.51 percent
Domstein and Co. | 31.81 percent
Saga A/S | 26.55 percent
Chr. Bjelland | 19.96 percent
Hallvard Leroy A/S | 31.81 percent
All Others | 23.80 percent

This sunset review and notice are in accordance with sections 751(c), 752, and 777(i)(1) of the Act. This notice serves as a final reminder to parties subject to administrative protective order (“APO”) of their responsibility concerning the disposition of proprietary material disclosed under APO in accordance with 19 CFR 351.305. Timely notification of return/destruction of APO materials or conversion to judicial protective order is hereby requested. Failure to comply with the regulations and the terms of an APO is a sanctionable violation.

Dated: December 22, 2005.
Stephen J. Claeys,
Acting Assistant Secretary for Import Administration.

[FR Doc. E5-8136 Filed 12-29-05; 8:45 am]

BILLING CODE 3510-DS-S